DEPARTMENT OF COMMERCE

National Oceanic and Atmospheric Administration

RIN 0648-XT69

Fisheries of the Atlantic; Southeast Data, Assessment, and Review (SEDAR); Atlantic croaker and Atlantic menhaden; Public Meetings

AGENCY: National Marine Fisheries Service (NMFS), National Oceanic and Atmospheric Administration (NOAA), Commerce.

ACTION: Notice of SEDAR Review Workshop for Atlantic croaker and Atlantic menhaden.

SUMMARY: The SEDAR assessment review of the Atlantic stocks of croaker and menhaden will be conducted at a Review Workshop. This is the twentieth SEDAR. See SUPPLEMENTARY INFORMATION.

DATES: The Review Workshop will take place March 8-12, 2010. See SUPPLEMENTARY INFORMATION for specific dates and times.

ADDRESSES: The Review Workshop will be held at the Hilton Garden Inn, 5265 International Boulevard, North Charleston, SC 29418; (800) 782-9444 or (843) 308-9330.

FOR FURTHER INFORMATION CONTACT: Dale Theiling, SEDAR Coordinator, 4055 Faber Place Drive, Suite 201, North Charleston, SC 29405; (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. The SEDAR 20 Review Workshop will be an independent peer review of the products from assessments of Atlantic stocks of croaker and menhaden conducted by the Atlantic States Marine Fisheries Commission (ASMFC). Products to be reviewed are reports from the ASMFC Data Workshop and ASMFC Stock Assessment Workshop for each stock. The Data Workshop Reports compile and evaluate potential datasets and recommend which datasets are appropriate for assessment analyses. The Stock Assessment Workshop Reports describe the fisheries, evaluate the status of the stock, estimate biological benchmarks, project future population conditions, and recommend research and monitoring needs. The product of the Review Workshop is a Peer Review Evaluation Report documenting Panel opinions regarding the strengths and weaknesses of the stock assessment and input data. Participants for the SEDAR 20 Review Workshop are appointed by the Atlantic States Marine Fisheries Commissions, NOAA Fisheries Southeast Fisheries Science Center, and the NOAA Center for Independent Experts. Review Workshop participants may include data collectors and database managers; stock assessment scientists, biologists, and researchers; constituency representatives including fishermen, environmentalists, and NGO's; international experts; and staff of Councils, Commissions, and state and federal agencies.

SEDAR 20 Workshop Schedule:

March 8-12, 2010; SEDAR 20 Review Workshop

March 8, 2010: 1 p.m. - 8 p.m.; March 9-11, 2010: 8 a.m. - 8 p.m.; March 12, 2010: 8 a.m. - 1 p.m.

The Review Workshop is an independent peer review of the assessments developed during the ASMFC Data and Assessment Workshops. Workshop Panelists will review the assessment and document their comments and recommendations in a Peer Review Evaluation Report.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to the workshop.

Dated: January 8, 2010
William D. Chappell,
Acting Director, Office of Sustainable Fisheries, National Marine Fisheries Service.

[FR Doc. 2010-467 Filed 1-12-10; 8:45 am]

BILLING CODE 3510-22-S